DEPARTMENT OF COMMERCE

Submission for OMB Review; Comment Request

The Department of Commerce will submit to the Office of Management and Budget (OMB) for clearance the following proposal for collection of information under the provisions of the Paperwork Reduction Act (44 U.S.C. Chapter 35).

Agency: Bureau of Industry and Security (BIS).

Title: Report of Requests for Restrictive Trade Practice or Boycott.

OMB Control Number: 0694-0012.

Form Number(s): BIS-621P, BIS-6051P, BIS-6051P-A.

Type of Request: Regular submission (extension of a current information collection).

Number of Respondents: 412.

Average Hours Per Response: 1 hour to 1 hour and 30 minutes.

Burden Hours: 482.

Needs and Uses: This information is used to monitor requests for participation in foreign boycotts against countries friendly to the U.S. The information is analyzed to note changing trends and to decide upon appropriate action to be taken to carry out the United States' policy of discouraging its citizens from participating in foreign restrictive trade practices and boycotts directed against U.S.-friendly countries.

Affected Public: Businesses or other for-profit organizations.

Frequency: On occasion.

Respondent's Obligation: Mandatory.

Copies of the above information collection proposal can be obtained by calling or writing Jennifer Jessup, Departmental Paperwork Clearance Officer, (202) 482-0266, Department of Commerce, Room 6616, 14th and Constitution Avenue NW., Washington, DC 20230 (or via the Internet at JJessup@doc.gov.

Written comments and recommendations for the proposed information collection should be sent within 30 days of publication of this notice to Jasmeet Seehra, OMB Desk Officer, by email to Jasmeet_K._Seehra@omb.eop.gov, or by fax to (202) 395-5167.

Dated: January 21, 2014.
Gwellnar Banks,
Management Analyst, Office of the Chief Information Officer.

[FR Doc. 2014-01431 Filed 1-24-14; 8:45 am]

BILLING CODE 3510-33-P